DEPARTMENT OF COMMERCE

Economic Development Administration

Proposed Information Collection; Comment Request; Application for Investment Assistance; Community Trade Adjustment Assistance Program

AGENCY: Economic Development Administration (EDA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 22, 2010.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to Jamie Lipsey, Room 7005, Economic Development Administration, Washington, DC 20230, telephone (202) 482-3467, facsimile (202) 482-5671 (or via the Internet at jlipsey@eda.doc.gov.).

SUPPLEMENTARY INFORMATION:

I. Abstract

EDA's mission is to lead the federal economic development agenda by promoting innovation and competitiveness, preparing American regions for growth and success in the worldwide economy. To accomplish this mission, EDA administers several programs authorized under the Public Works and Economic Development Act of 1965 ((42 U.S.C. 3121 et seq.) (PWEDA) and under chapters 3, 4, and 5 of the Trade Act of 1974 (19 U.S.C. 2341 et seq.) (Trade Act)).

The Trade and Globalization Adjustment Assistance Act (TGAAA), part of the American Recovery and Reinvestment Act of 2009, amended chapter 4 of the Trade Act to establish the Community Trade Adjustment Assistance (Community TAA) Program, which is designed to assist U.S. communities suffering negative effects from trade impacts and will be administered by EDA.

The amended Trade Act requires that a community have a Cognizable Certification, which is a certification by the Secretaries of Labor, Commerce, or Agriculture under the TAA for Workers, Firms, or Farmers programs, respectively and petition for EDA to make an Affirmative Determination that a community is significantly affected by the threat to, or loss of, jobs associated with the Cognizable Certification as a threshold before receiving a grant under the program. EDA plans to make such petitions as minimally burdensome as possible and to process petitions using the OMB-approved Application for Federal Assistance (Form SF-424) to reduce confusion and ensure standard information. EDA intends to request that a petitioning community complete Items 1-16 and 21 of Form SF-424. For Item 15, recipients will be required to complete a formula provided by EDA using their Civilian Labor Force (CLF) data, which is readily available from the Bureau of Labor Statistics, and provide a brief narrative describing the threat to, or loss of, jobs associated with a Cognizable Certification.

Applicants also must identify the applicable Cognizable Certification upon which the community bases its petition or petition-application. For TAA Workers Cognizable Certifications, the applicant community must provide the TAA petition number associated with the Department of Labor's certification decision. For TAA for Firms certifications, the applicant community must provide the name of the firm certified under the program and locator number in the official notification letter provided by the Department of Commerce to the certified firm. For TAA for Farmers certifications, the applicant community must provide the name of the certified agricultural commodity and the record identifier provided by the Department of Agriculture. Recipients do not have to complete Items 17, 18, and 19 of Form SF-424.

Since the implementation portion of the Community TAA Program is similar to EDA's existing economic development planning and construction programs, EDA plans to require communities that have received this Affirmative Determination to use OMB-approved Application for Investment Assistance (Form ED-900), to request planning and/or project implementation assistance.

Form ED-900 also is required to apply for assistance under EDA's other economic development programs authorized under PWEDA. All information collected using Form ED-900 is necessary for EDA to evaluate whether proposed projects satisfy eligibility and programmatic requirements contained in PWEDA, the accompanying regulations codified in 13 CFR chapter III, and the applicable Federal Funding Opportunity (FFO) announcement. As noted above, Form ED-900 also will be used to evaluate whether proposed projects satisfy eligibility and programmatic requirement contained in chapter 4 of the Trade Act, which establishes the Community TAA Program, EDA's regulations as set out at 13 CFR part 313, and the applicable FFO.

Form ED-900 was renewed in March 2009; however, an emergency request was submitted to the Office of Management and Budget due to the eligibility changes in the Trade Adjustment Assistance for Firms Program as specified in the Trade and Globalization Adjustment Assistance Act (TGAAA) of 2009, which reauthorized the program. OMB approved this emergency request on August 12, 2009, and because of the time constraints of the emergency request, a notice for public comment was not processed. The emergency request is valid for six months and this notice will begin the process to extend the approval.

II. Method of Collection

Form ED-900 may be downloaded in Portable Document Format (PDF) from http://www.grants.gov. Form ED-900 may be submitted electronically via http://www.grants.gov or in hard copy to the applicable EDA regional office that serves the applicant's state.

III. Data

OMB Control Number: 0610-0094.

Form Number(s): ED-900.

Type of Review: Regular submission.

Affected Public: Local, county, or other political subdivision of a State or a consortium of political subdivisions of a State.

Estimated Number of Respondents: 1,225 [Community TAA Program: 350 respondents (of which 300 are expected to go on to file implementation grant applications following receipt of an Affirmative Determination from EDA). EDAP: 875 grant applications].

Estimated Time per Response: 21.35 hours [weighted average of 21.66 hours for 875 EDAP respondents, 2 hours for 50 Community TAA respondents filing petitions but not requesting implementation grant assistance, and 23.66 hours for Community TAA respondents filing petitions and requesting implementation grant assistance].

Estimated Total Annual Burden Hours: 26,150.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 18, 2009.
Gwellnar Banks,
Management Analyst, Office of the Chief Information Officer.

[FR Doc. E9-30505 Filed 12-22-09; 8:45 am]

BILLING CODE 3510-24-P